DEPARTMENT OF TRANSPORTATION

Coast Guard

33 CFR Part 165

[CGD01-00-007]

RIN 2115-AA97

Regulated Navigation Area, Boston, MA

AGENCY: Coast Guard, DOT.

ACTION: Notice of proposed rulemaking, withdrawal.

SUMMARY: The Coast Guard is withdrawing the Notice of Proposed Rulemaking (NPRM) which proposed to decrease the safety zone ahead of loaded Liquefied Natural Gas Carrier (LNGC) vessels found at 33 CFR 165.110. In light of the terrorist attacks in New York City and Washington, DC on September 11, 2001, safety and security zones are being established to safeguard the LNGC vessels and LNG facilities in the Captain of the Port Boston, MA zone that conflict with this NPRM and thus necessitate its withdrawal.

DATES: The NPRM proposing to amend 33 CFR 165.110 that was published on May 2, 2000 (65 FR 25458) is withdrawn as of August 6, 2002.

ADDRESSES: Comments and related material received from the public, as well as documents mentioned in this preamble as being available in the docket, are part of docket CGD01-00-007 and are available for copying or inspection at Marine Safety Office Boston, 455 Commercial Street, Boston, MA between the hours of 8 a.m. and 3 p.m., Monday through Friday, except Federal holidays.

FOR FURTHER INFORMATION CONTACT: LT Dave Sherry, Marine Safety Office Boston, Maritime Security Operations Division, at (617) 223-3030.

SUPPLEMENTARY INFORMATION:

Regulatory History

On May 2, 2000 we published a notice of proposed rulemaking (NPRM) entitled “Regulated Navigation Area, Boston, MA” in the Federal Register (65 FR 25458). We received no comments on the proposed rule. No public hearing was requested and none was held. No final rule was published.

The NPRM proposed to change 33 CFR 165.110(a)(1) by removing the words “two miles” and replace them with the words “one mile”, effectively reducing the size of the safety zone described therein. At this time this reduction was intended to reduce burdens imposed on commercial and recreational mariners by the safety zone.

Withdrawal

In light of the terrorist attacks in New York City and Washington, DC on September 11, 2001, the Captain of the Port Boston, MA has had to reconsider this NPRM. In a post-September 11, 2001 security assessment it was determined that LNGC vessels represent a potential terrorist target. As a result, safety and security zones are being established to increase protective measures around LNGC vessels while in transit, at anchor, and moored at a transfer facility in the COTP Boston, MA zone. These proposed increased measures are intended to protect LNGC vessels, the public, and the surrounding area from sabotage or other subversive acts, accidents, or other events of a similar nature. These safety and security zones have been proposed in an NPRM [Docket # CGD01-02-023] published July 26, 2002 (67 FR 48834). Since the proposal to reduce the size of the safety zone around LNGC vessels in transit published May 2, 2000, at 65 FR 25458, is in conflict with the July 26, 2002 NPRM, which increases protective measures in response to new potential threats, the May 2, 2000 NPRM must be withdrawn.

Dated: July 26, 2002.
B.M. Salerno,
Captain, U.S. Coast Guard, Captain of the Port, Boston, Massachusetts.

[FR Doc. 02-19850 Filed 8-5-02; 8:45 am]

BILLING CODE 4910-15-P